DEPARTMENT OF COMMERCE

National Oceanic and Atmospheric Administration

[I.D. 071002A]

Marine Mammals; Notice of Intent to Prepare an Environmental Impact Statement for a Take Reduction Plan for the Western North Atlantic Coastal Stock of Bottlenose Dolphins

AGENCY: National Marine Fisheries Service (NMFS), National Oceanic and Atmospheric Administration (NOAA), Commerce.

ACTION: Notice of intent to prepare an Environmental Impact Statement (EIS); reopening of comment period.

SUMMARY: NMFS announced its intention to prepare an EIS on July 22, 2002. The EIS, prepared in accordance with the National Environmental Policy Act, is for the development of a Bottlenose Dolphin Take Reduction Plan (BDTRP) to reduce the incidental mortality and serious injury of the Atlantic coastal stock of bottlenose dolphins in commercial fisheries to below the potential biological removal (PBR) level for the stock. The purpose of this action is to solicit public comments on the scope of the issues to be addressed in the EIS. The original comment period closed on August 21, 2002. However, in response to public comments and to ensure that the public has ample opportunity to provide comments, NMFS is reopening the pubic comment period for an additional 45 days.

DATES: Comments on the scope of the EIS must be postmarked or transmitted via facsimile by 5 p.m. Eastern Standard Time November 4, 2002.

ADDRESSES: Send comments on the scope of the EIS to Chief, Marine Mammal Conservation Division, Office of Protected Resources, National Marine Fisheries Service, 1315 East-West Highway, Silver Spring, MD 20910, Attn: Bottlenose Dolphin EIS. Comments may also be sent via facsimile to 301-713-0376. NMFS will not accept comments submitted via e-mail or Internet.

FOR FURTHER INFORMATION CONTACT: Katie Moore, NMFS Southeast Region, phone: 727-570-5312, e-mail: Katie.Moore@nooa.gov; or Emily Menashes, NMFS Office of Protected Resources, phone: 301-713-2322, e-mail: Emily.Menashes@noaa.gov. Individuals who use a telecommunications device for the deaf (TDD) may call the Federal Information Relay Service at 1-800-877-8339 between 8 a.m. and 4 p.m. Eastern time, Monday through Friday, excluding Federal holidays.

SUPPLEMENTARY INFORMATION: Electronic Access For additional information on Atlantic coastal bottlenose dolphins, refer to the draft 2002 Atlantic and Gulf of Mexico Marine Mammal Stock Assessment Reports (SARs). The reports can be accessed via the internet at: http://www.nmfs.noaa.gov/prot_res/PR2/Stock_Assessment_Program/sars.html.

Background

NMFS intends to develop and implement a BDTRP pursuant to section 118(f) of the Marine Mammal Protection Act (MMPA). The purpose of the proposed action is to reduce the incidental mortality and serious injury of the Atlantic coastal stock of bottlenose dolphins in commercial fisheries to below the PBR level for the stock. The BDTRP will address mortality and serious injury of Atlantic coastal bottlenose dolphins incidentally taken in the following Category II commercial fisheries: Mid-Atlantic coastal gillnet; North Carolina inshore gillnet; Southeast Atlantic gillnet; Southeastern U.S. Atlantic shark gillnet; Atlantic blue crab trap/pot; Mid-Atlantic haul/beach seine; North Carolina long haul seine; North Carolina roe mullet stop net; and Virginia pound net.

Section 118(f) of the MMPA requires NMFS to convene a take reduction team to assist in the recovery and prevent the depletion of each strategic stock that interacts with Category I or II fisheries. The western North Atlantic coastal stock of bottlenose dolphins is a strategic stock. More information about the stock is available in the draft 2002 SAR, which can be obtained via the internet or by contacting Katie Moore or Emily Menashes (see FOR FURTHER INFORMATION CONTACT). Strategic status was initially assigned because the stock is designated as depleted under the MMPA as a result of a large-scale mortality event that occurred in 1987-1988 (58 FR 17789, April 6, 1993). However, the stock also qualifies as strategic because mortality and serious injury of this stock incidental to commercial fishing exceeds the PBR level of the stock.

The immediate goal of a take reduction plan for a strategic stock of marine mammals is to reduce, within 6 months of plan implementation, the incidental mortality or serious injury of marine mammals taken in the course of commercial fishing operations to levels less than the PBR level. The long-term goal of the plan is to reduce, within 5 years of its implementation, the incidental mortality or serious injury of marine mammals taken in the course of commercial fishing operations to insignificant levels approaching a zero mortality and serious injury rate, taking into account the economics of the fishery, the availability of existing technology, and existing state or regional fishery management plans.

The Secretary of Commerce (Secretary) may establish a take reduction team to address mortality or serious injury of strategic stocks of marine mammals interacting with Category I or II fisheries. Not later than 6 months after the date of establishment of a take reduction team, the team is required to submit a draft take reduction plan for such stock to the Secretary, consistent with the other provisions of section 118 of the MMPA. The Secretary is required to take the draft take reduction plan submitted by the team into consideration and publish in the Federal Register a summary of the draft plan submitted by the team, any changes proposed by the Secretary with an explanation of the reasons therefore, and proposed regulations to implement such plan, for public review and comment.

Public Scoping Process

The Bottlenose Dolphin Take Reduction Team (Team) was established on November 7, 2001. A Federal Register notification announcing the convening of the Team and their first meeting was published on October 24, 2001 (66 FR 53782). The Team met a total of five times before delivering consensus recommendations for the BDTRP to NMFS on May 7, 2002. The dates of the five meetings were: November 7-8, 2001, January 23-25, 2002, February 27-March 1, 2002, March 27-28, 2002, and April 23-25, 2002. Team meetings were open to the public and a public comment period was held following each day of meetings. Additionally, NMFS held three public meetings with potential Team members and other interested members of the public on May 15-16, 2001, July 11-12, 2001, and November 6, 2001. An additional meeting of the Team, tentatively scheduled for January of 2003 and open to the public, will be held prior to development of the proposed rule implementing the BDTRP and completion of the draft EIS. This document provides additional opportunity for public involvement in the scope of the issues to be addressed in the EIS.

NMFS hired a commercial fisheries liaison to involve potentially affected sectors of the commercial fishing industry in the Team process by providing information about the purpose of the Team, meeting dates and locations, and discussion topics for upcoming meetings. The liaison used dockside visits, commercial fishing publications, and a commercial fishing expo to disseminate the information. NMFS generated and distributed a fact sheet about the Team and upcoming Team meetings and used mail and electronic mail to distribute information about meeting logistics and summaries to over 200 interested persons.

Analysis of Alternatives

NMFS will be analyzing alternatives that are reasonably expected to reduce mortality and serious injury of Atlantic coastal bottlenose dolphins to less than the PBR level within 6 months of implementation of the BDTRP. NMFS will be analyzing all reasonable alternatives, which include a status quo alternative and the recommendations submitted by the Team. The Team's recommendations can be obtained by contacting Katie Moore or Emily Menashes (see FOR FURTHER INFORMATION CONTACT).

Dated: September 13, 2002.
Chris Mobley,
Acting Director, Office of Protected Resources, National Marine Fisheries Service.

[FR Doc. 02-23840 Filed 9-18-02; 8:45 am]

BILLING CODE 3510-22-S